SECURITIES AND EXCHANGE COMMISSION

[OMB Control No. 3235-0065]

Agency Information Collection Activities; Submission for OMB Review; Comment Request; Extension: Form S-1 Registration Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) this request for extension of the previously approved collection of information discussed below.

Form S-1 (17 CFR 239.11) is used by domestic issuers who are not eligible to use other forms to register a public offering of their securities under the Securities Act of 1933 (15 U.S.C. 77a et seq.). The information collected is intended to ensure the adequacy of information available to investors in connection with securities offerings. The information required by Form S-1 is mandatory, and Form S-1 is publicly available on the Commission's Electronic Data Gathering, Analysis, and Retrieval (“EDGAR”) system. We estimate that Form S-1 takes approximately 642.56 hours per response and is filed once per year by approximately 908 issuers, for a total of approximately 908 responses annually. We estimate that 25% of the 642.56 hours per response is carried internally by the issuer for annual reporting burden of 145,861 hours ((25% × 642.56 hours per response) × 908 responses). We estimate that 75% of the 642.56 hours per response is carried externally by outside professionals retained by the issuer at an estimated rate of $600 per hour for a total annual cost burden of $262,550,016 ((75% × 642.56 hours per response) × $600 per hour × 908 responses).

An agency may not conduct or sponsor, and a person is not required to respond to, a collection of information unless it displays a currently valid OMB Control Number.

The public may view and comment on this information collection request at: https://www.reginfo.gov/public/do/PRAViewICR?ref_nbr=202508-3235-003 or email comment to MBX.OMB.OIRA.SEC_desk_officer@omb.eop.gov within 30 days of the day after publication of this notice, by January 5, 2026.

Dated: December 1, 2025.
Sherry R. Haywood,
Assistant Secretary.

[FR Doc. 2025-21828 Filed 12-2-25; 8:45 am]

BILLING CODE 8011-01-P